DEPARTMENT OF COMMERCE

National Oceanic and Atmospheric Administration

50 CFR Part 679

RIN 0648-BA97

Fisheries of the Exclusive Economic Zone Off Alaska; Central Gulf of Alaska Rockfish Program; Amendment 88

AGENCY: National Marine Fisheries Service (NMFS), National Oceanic and Atmospheric Administration (NOAA), Commerce.

ACTION: Notification of availability of fishery management plan amendment; request for comments.

SUMMARY: The National Marine Fisheries Service (NMFS) announces that the North Pacific Fishery Management Council (Council) has submitted Amendment 88 to the Fishery Management Plan for Groundfish of the Gulf of Alaska (FMP) for review by the Secretary of Commerce (Secretary). If approved, Amendment 88 would establish the Central Gulf of Alaska Rockfish Program (Rockfish Program). This proposed program would allocate exclusive harvest privileges to a select group of License Limitation Program (LLP) license holders who used trawl gear to target Pacific ocean perch, pelagic shelf rockfish, and northern rockfish during specific qualifying years. Amendment 88 would modify the FMP to retain the conservation, management, safety, and economic gains realized under the Rockfish Pilot Program and viability of the Gulf of Alaska fisheries. This action is necessary to replace particular Rockfish Pilot Program regulations that are scheduled to expire at the end of 2011. This action is intended to promote the goals and objectives of the Magnuson-Stevens Fishery Conservation and Management Act, the FMP, and other applicable law.

DATES: Comments on Amendment 88 must be received on or before September 26, 2011.

ADDRESSES: Send comments to Glenn Merrill, Assistant Regional Administrator for Sustainable Fisheries, Alaska Region, NMFS, Attn: Ellen Sebastian. You may submit comments, identified by RIN 0648-BA97, by any one of the following methods:

• Electronic Submissions: Submit all electronic public comments via the Federal eRulemaking Portal Web site at http://www.regulations.gov.

• Mail: P.O. Box 21668, Juneau, AK 99802.

• Fax: 907-586-7557.

• Hand delivery to the Federal Building: 709 West 9th Street, Room 420A, Juneau, AK.

All comments received are a part of the public record and will generally be posted to http://www.regulations.gov without change. All personal identifying information (e.g., name, address) voluntarily submitted by the commenter may be publicly accessible. Do not submit confidential business information or otherwise sensitive or protected information.

NMFS will accept anonymous comments (enter N/A in the required fields, if you wish to remain anonymous). Attachments to electronic comments will be accepted in Microsoft Word, Excel, WordPerfect, or Adobe portable document file (pdf) formats only.

Electronic copies of Amendment 88 to the FMP, the Regulatory Impact Review, the Initial Regulatory Flexibility Analysis, and the Environmental Assessment, prepared for this action are available from http://wwww.regulations.gov or from the Alaska Region Web site at http://alaskafisheries.noaa.gov.

FOR FURTHER INFORMATION CONTACT: Gwen Herrewig, 907-586-7091.

SUPPLEMENTARY INFORMATION: The Magnuson-Stevens Fishery Conservation and Management Act (Magnuson-Stevens Act) requires that each regional fishery management council submit any fishery management plan amendment it prepares to NMFS for review and approval, disapproval, or partial approval by the Secretary of Commerce (Secretary). The Magnuson-Stevens Act also requires that NMFS, upon receiving a fishery management plan amendment, immediately publish a notice in the Federal Register announcing that the amendment is available for public review and comment. This document announces that proposed Amendment 88 to the FMP is available for public review and comment.

The groundfish fisheries in the exclusive economic zone of Alaska are managed under the GOA FMP and the Fishery Management Plan for Groundfish of the Bering Sea and Aleutian Islands Management Area. These fishery management plans were prepared by the North Pacific Fishery Management Council (Council) under the Magnuson-Stevens Act.

Amendment 88 is necessary to replace Central Gulf of Alaska (GOA) Rockfish Pilot Program (Pilot Program) regulations that are scheduled to expire December 31, 2011. The Pilot Program was recommended by the Council in June 2005 as Amendment 68 to the Central GOA FMP. Section 802 of the Consolidated Appropriations Act of 2004 (Pub. L. 108-199) granted NMFS specific authority to manage Central GOA rockfish fisheries, and directed the Secretary, in consultation with the Council, to develop a program that recognizes the historical participation of fishing vessels and fish processors in the Central GOA rockfish fishery. Regulations implementing Amendment 68 were published on November 20, 2006 (71 FR 67210), and are located at 50 CFR Part 679. Fishing began under the Pilot Program on May 1, 2007.

The Council designed the Pilot Program to be used as a demonstration program for a long term Central GOA rockfish program. The Rockfish Program proposed in Amendment 88 meets the requirements for limited access privileges in section 303A of the Magnuson-Stevens Act. Amendment 88 would allow for the proposed Rockfish Program to retain the conservation, safety, and economic gains realized under the Pilot Program. It would be similar in the implementation, management, monitoring, and enforcement developed under the Pilot Program. It would also resolve identified issues in the management and viability of the fisheries.

Central GOA Rockfish Program

The Rockfish Program would provide exclusive harvesting privileges for vessels using trawl gear to harvest a specific set of rockfish species and associated species incidentally harvested to those rockfish in the Central GOA, an area from 147° W. long. to 159° W. long. The granting of exclusive harvesting is commonly called rationalization. The rockfish primary species rationalized under the Rockfish Program are northern rockfish, Pacific ocean perch, and pelagic shelf rockfish. The incidentally harvested groundfish taken in the primary rockfish fisheries and which also are rationalized under the Rockfish Program are called the secondary species. The secondary species are Pacific cod, rougheye rockfish, shortraker rockfish, and sablefish that are harvested by vessels using trawl gear. In addition to these secondary species, the Rockfish Program would allocate a portion of the halibut bycatch mortality limit annually specified for the GOA trawl fisheries to Rockfish Program participants. This allocation of bycatch mortality could be used by Rockfish Program participants during harvest activities in the fisheries rationalized under the Rockfish Program.

The Rockfish Program would continue to assign quota share (QS) and cooperative quota (CQ) to participants for primary and secondary species, allow a participant holding an LLP license with Rockfish QS to form a rockfish cooperative with other persons, and allow holders of catcher/processor LLP licenses to opt-out of the fishery. The entry level fishery would continue for harvesters who are not eligible for the Rockfish Program and would be directed fishing for rockfish primary species using longline gear only. Additionally, the Rockfish Program continues to establish sideboard limits, as well as monitoring and enforcement provisions.

If approved, the proposed Rockfish Program would be effective from January 1, 2012, through December 31, 2021. The Council reviewed and considered the duration of the permits under section 303A of the Magnuson-Stevens Act. All permits would expire after 10 years but would be renewed unless the Council takes action to discontinue the Rockfish Program. A formal review of the Rockfish Program by the Council would take place 3 years after the implementation of the program to determine if the program is functioning as intended.

Even though the two programs are similar, the proposed Rockfish Program would change some provisions that were implemented under the Pilot Program. In summary, the proposed Rockfish Program would:

• Change the qualifying years for eligibility for QS from 1996 through 2002 under the Pilot Program to 2000 though 2006 under the Rockfish Program;

• Utilize data from the new qualifying years to determine the allocation of QS and sideboard limits;

• Maintain a small portion of the annual allocation of primary rockfish species for persons not receiving QS to fish in an entry level fishery. The Rockfish Program would restrict the entry level fishery to longline gear only and discontinue the entry level trawl fishery; however, the Rockfish Program would allow participants in the Pilot Program entry level trawl fishery to qualify for QS;

• Relax the requirements to form a cooperative so that a person holding QS would not need to form an association with a specific processor and so that a minimum number of QS holders is not required to form a cooperative;

• Modify the required location where harvesters in cooperatives may deliver rockfish. Under the Rockfish Program, cooperatives could only deliver catch to shorebased processors operating within the boundaries of the City of Kodiak—the traditional rockfish delivery port;

• Require that QS holders form a cooperative to be able to fish in the Rockfish Program and discontinue the limited access fishery “race for fish” that QS holders could participate in under the Pilot Program;

• Simplify sideboards and add slight modifications to sideboards for catcher processors;

• Implement a cost recovery program;

• Establish a catch monitoring and control plan specialist to monitor deliveries; and

• Be authorized for 10 years, from January 1, 2012, until December 31, 2021.

Proposed Amendment 88 would continue management of Central GOA rockfish through an exclusive harvest privilege. Greater security for harvesters in cooperatives would continue to be realized under the Rockfish Program. Although participants that opt out of participating in cooperatives and participants in the entry level fishery would not receive a guaranteed annual catch amount, most harvesters would participate in a cooperative that receives a CQ allocation. A CQ allocation would continue to provide incentives to focus on quality, promote a slower paced fishery, enhance safety by providing a vessel operator more flexibility to choose when to fish, and provide greater stability for processors by spreading out production over a greater period of time.

Public comments are being solicited on proposed Amendment 88 to the GOA FMP through the end of the comment period (see DATES). NMFS intends to publish this action in the Federal Register and seek public comment on a proposed rule that would implement Amendment 88, following NMFS' evaluation of the proposed rule under the Magnuson-Stevens Act. Public comments on the proposed rule must be received by the end of the comment period for Amendment 88 to be considered in the approval/disapproval decision on Amendment 88. All comments received by the end of the comment period on Amendment 88, whether specifically directed to the GOA FMP amendment or the proposed rule will be considered in the FMP approval/disapproval decision. Comments received after that date will not be considered in the approval/disapproval decision on the amendment. To be considered, comments must be received, not just postmarked or otherwise transmitted, by the close of business on the last day of the comment period.

Authority: 16 U.S.C. 773 et seq., 1801 et seq., 3631 et seq.; and Pub. L. 108-447.

Dated: July 25, 2011.
Margo Schulze-Haugen,
Acting Director, Office of Sustainable Fisheries, National Marine Fisheries Service.

[FR Doc. 2011-19125 Filed 7-27-11; 8:45 am]

BILLING CODE 3510-22-P